COMMISSION ON CIVIL RIGHTS

Sunshine Act Meeting Notice

AGENCY: United States Commission on Civil Rights.

ACTION: Notice of Commission business meeting.

DATES: Friday, April 15, 2016, at 10:00 a.m. EST.

ADDRESSES: Place: National Place Building, 1331 Pennsylvania Ave. NW., 11th Floor, Suite 1150, Washington, DC 20245 (Entrance on F Street NW.).

FOR FURTHER INFORMATION CONTACT: Gerson Gomez, Media Advisor at telephone: (202) 376-8371, TTY: (202) 376-8116 or email: publicaffairs@usccr.gov.

SUPPLEMENTARY INFORMATION: This business meeting is open to the public. If you would like to listen to the business meeting, please contact the above for the call-in information. Hearing-impaired persons who will attend the briefing and require the services of a sign language interpreter should contact Pamela Dunston at (202) 376-8105 or at signlanguage@usccr.gov at least seven business days before the scheduled date of the meeting.

Meeting Agenda

I. Approval of Agenda

II. Business Meeting

A. Program Planning

• Discussion on Commissioner Concept Papers and Statutory Enforcement Report for 2017

• Discussion and vote on Commission statement concerning North Carolina law on LGBT rights

• Discussion and vote on Commission statement concerning disparate impact that the Countering Violent Extremism (CVE) program will have on the Muslim community in the U.S.

• Discussion and vote on Commission statement concerning Parallel Construction (NSA data-sharing)

B. Advisory Committees

• Presentation by Nebraska State Advisory Committee Chair on report about impact of state law denying state services to individuals who cannot present documentation of legal status.

C. Management and Operations

• Staff Director's Report

III. State Advisory Committee (SAC) Appointments

• Georgia

• Maine

IV. Adjourn Meeting

Dated: April 8, 2016.
David Mussatt,
Regional Programs Unit Chief, U.S. Commission on Civil Rights.

[FR Doc. 2016-08477 Filed 4-8-16; 4:15 pm]

BILLING CODE 6335-01-P